ENVIRONMENTAL PROTECTION AGENCY

[EPA-HQ-OPP-2009-0684; FRL-8848-5]

Product Cancellation Order for Certain Pesticide Registrations

AGENCY: Environmental Protection Agency (EPA).

ACTION: Notice; withdrawal of notice.

SUMMARY: This notice announces EPA's order for the cancellations, voluntarily requested by the registrant and accepted by the Agency, of the products listed in Table 1 of Unit II, pursuant to section 6(f)(1) of the Federal Insecticide, Fungicide, and Rodenticide Act (FIFRA), as amended. This cancellation order follows a February 2, 2010, Federal Register Notice of Receipt of Requests from the registrant listed in Table 2 of Unit II., to voluntarily cancel these product registrations. This cancellation order also follows an April 7, 2010, Federal Register notice, which includes (in part) duplicative notice of the same requests. With respect to the products that are the subject of this order, the duplicative portions of the April 7, 2010, notice were issued in error and are hereby withdrawn. In the February 2, 2010, notice, EPA indicated that it would issue an order implementing the cancellations, unless the Agency received substantive comments within the 180-day comment period that would merit its further review of these requests, or unless the registrant withdrew their request. The Agency received comments on the notice but none merited its further review of the requests. Further, the registrant did not withdraw their request. Accordingly, EPA hereby issues in this notice a cancellation order granting the requested cancellations. Any distribution, sale, or use of the products subject to this cancellation order is permitted only in accordance with the terms of this order, including any existing stock provisions.

DATES: The cancellations are effective October 14, 2010.

FOR FURTHER INFORMATION CONTACT: Daniel Peacock, Registration Division (7505P), Office of Pesticide Programs, Environmental Protection Agency, 1200 Pennsylvania Ave., NW., Washington, DC 20460-0001; telephone number: (703) 305-5407; fax number: (703) 308-0029; e-mail address: peacock.daniel@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-0684. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility's telephone number is (703) 305-5805.

II. What action is the agency taking?

This notice announces the cancellation, as requested by the registrant, of products registered under FIFRA section 3. These registrations are listed in sequence by the registration number in Table 1 of this unit.

Table 1—Product Cancellations
EPA Registration No. | Product name | Chemical name
NE-060001 | Rozol Prairie Dog Bait | Chlorophacinone
CO-060009 | Rozol Prairie Dog Bait | Chlorophacinone
KS-070003 | Rozol Prairie Dog Bait | Chlorophacinone
WY-070005 | Rozol Prairie Dog Bait | Chlorophacinone
TX-070008 | Rozol Prairie Dog Bait | Chlorophacinone
OK-080002 | Rozol Prairie Dog Bait | Chlorophacinone

Table 2 of this unit includes the name and address of record for the registrant of the products listed in Table 1 of this unit.

Table 2—Registrants of Canceled Products
EPA Company No. | Company name and address
7173 | Liphatech, 3600 West Elm St., Milwaukee, WI 53209.

III. Summary of Public Comments Received and the Agency Response to Comments

The comments submitted during the comment period expressed a general opposition to the use of anticoagulants to control prairie dogs, and none addressed the requests for voluntary cancellation. Therefore, the Agency does not believe that the comments merit further consideration with respect to those requests.

IV. Cancellation Order

Pursuant to FIFRA section 6(f), EPA hereby approves the requested cancellations of the registrations identified in Table 1 of Unit II. Accordingly, the Agency hereby orders that the product registrations identified in Table 1 of Unit II. are canceled. The effective date of the cancellations that are subject of this notice is October 14, 2010. Any distribution, sale, or use of existing stocks of the products identified in Table 1 of Unit II. in a manner inconsistent with any of the provisions for disposition of existing stocks set forth in Unit VI., will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any request in the Federal Register. Thereafter, following the public comment period, the EPA Administrator may approve the request. The notice of receipt for this action was published for comment in the Federal Register issued on February 2, 2010 (75 FR 5318) (FRL-8809-8). The comment period closed on August 2, 2010.

VI. Provisions for Disposition of Existing Stocks

Existing stocks are those stocks of registered pesticide products that are currently in the United States and which were packaged, labeled, and released for shipment prior to the effective date of the cancellation action. The existing stock provisions for the products subject to this order are as follows.

The registrant may continue to sell and distribute existing stocks of products listed in Table 1 of Unit II. until October 14, 2011, which is 1 year after the publication of the cancellation order in the Federal Register. Thereafter, the registrant is prohibited from selling or distributing products listed in Table 1 of Unit II., except for export in accordance with FIFRA section 17, or proper disposal. Persons other than the registrant may sell, distribute, or use existing stocks of products listed in Table 1 of Unit II., until existing stocks are exhausted, provided that such sale, distribution, or use is consistent with the terms of the previously approved labeling on, or that accompanied, the canceled products.

List of Subjects

Environmental protection, Pesticides and pests.

Dated: October 1, 2010.
Lois Rossi,
Director, Registration Division, Office of Pesticide Programs.

[FR Doc. 2010-25905 Filed 10-13-10; 8:45 am]

BILLING CODE 6560-50-P